DEPARTMENT OF TRANSPORTATION

Federal Transit Administration

Limitation on Claims Against Proposed Public Transportation Projects

AGENCY: Federal Transit Administration (FTA), DOT.

ACTION: Notice.

SUMMARY: This notice announces final environmental action taken by the Federal Transit Administration (FTA) for a project in Milwaukee County, Wisconsin. The purpose of this notice is to announce publicly the environmental decision by FTA on the subject project and to activate the limitation on any claims that may challenge this final environmental action.

DATES: By this notice, FTA is advising the public of final agency actions subject to 23 U.S.C. 139(l). A claim seeking judicial review of FTA actions announced herein for the listed public transportation project will be barred unless the claim is filed on or before May 17, 2019.

FOR FURTHER INFORMATION CONTACT: Nancy-Ellen Zusman, Assistant Chief Counsel, Office of Chief Counsel, (312) 353-2577 or Juliet Bochicchio, Environmental Protection Specialist, Office of Environmental Programs, (202) 366-9348. FTA is located at 1200 New Jersey Avenue SE, Washington, DC 20590. Office hours are from 9:00 a.m. to 5:00 p.m., Monday through Friday, except Federal holidays.

SUPPLEMENTARY INFORMATION: Notice is hereby given that FTA has taken final agency action by issuing certain approvals for the public transportation project listed below. The action on the project, as well as the laws under which such action was taken, are described in the documentation issued in connection with the project to comply with the National Environmental Policy Act (NEPA) and in other documents in the FTA environmental project file for the project. Interested parties may contact either the project sponsor or the relevant FTA Regional Office for more information. Contact information for FTA's Regional Offices may be found at https://www.fta.dot.gov.

This notice applies to all FTA decisions on the listed project as of the issuance date of this notice and all laws under which such action was taken, including, but not limited to, NEPA [42 U.S.C. 4321-4375], Section 4(f) requirements [23 U.S.C. 138, 49 U.S.C. 303], Section 106 of the National Historic Preservation Act [54 U.S.C. 306108], and the Clean Air Act [42 U.S.C. 7401-7671q]. This notice does not, however, alter or extend the limitation period for challenges of project decisions subject to previous notices published in the Federal Register. The project and action that is the subject of this notice follow:

Project name and location: East-West Bus Rapid Transit Project, Milwaukee County, Wisconsin. Project sponsor: Milwaukee County, WI. Project description: The Milwaukee County East-West Bus Rapid Transit (BRT) Project will implement a new transit corridor along a 9-mile-long alignment to provide bus transit service from downtown Milwaukee to the City of Wauwatosa. The BRT Project will use existing transportation infrastructure to improve accessibility, mobility, transit travel times, reliability, and passenger amenities within the project area. The BRT Project will operate on existing roads in dedicated transit lanes for approximately 5 miles and otherwise in mixed traffic lanes, and will be implementing transit signal priority or other signal treatments at 33 intersections to reduce travel times in the corridor. The alignment will involve complete roadway reconstruction along portions of 92nd Street and 94th Street through the Milwaukee Regional Medical Center campus between Wisconsin Avenue and Watertown Plank Road and will involve the construction of 19 BRT stations. This notice only applies to the discrete actions taken by FTA at this time, as described below. Nothing in this notice affects FTA's previous decisions, or notice thereof, for this project.

Final agency actions: Section 4(f) determination, dated August 22, 2018; Section 106 finding of no adverse effect on historic properties, dated July 2, 2018; project-level air quality conformity; and Finding of No Significant Impact for the Milwaukee East-West Bus Rapid Transit Project, Milwaukee County, WI, dated November 29, 2018.

Supporting documentation: Milwaukee East-West Bus Rapid Transit Project, Milwaukee County, WI, Environmental Assessment, dated August 22, 2018.

Elizabeth S. Riklin,
Deputy Associate Administrator for Planning and Environment.

[FR Doc. 2018-27327 Filed 12-17-18; 8:45 am]

BILLING CODE 4910-57-P